DEPARTMENT OF HOMELAND SECURITY

Coast Guard

33 CFR Part 165

[USCG-2012-0375]

RIN 1625-AA00

Safety Zone, Milwaukee Harbor, Milwaukee, WI

AGENCY: Coast Guard, DHS.

ACTION: Notice of enforcement of regulation.

SUMMARY: The Coast Guard will enforce the safety zone in Milwaukee Harbor, Milwaukee, WI for annual fireworks displays in the Captain of the Port Lake Michigan zone at specified times from June 6, 2015 until September 12, 2015. This action is necessary and intended to ensure safety of life on the navigable waters immediately prior to, during, and immediately after fireworks displays. During the aforementioned periods, the Coast Guard will enforce restrictions upon, and control movement of, vessels in the safety zone. No person or vessel may enter the safety zone while it is being enforced without permission of the Captain of the Port Lake Michigan.

DATES: The regulations in 33 CFR 165.935 will be enforced at specified times from June 6, 2015 until September 12, 2015.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.935, Safety Zone, Milwaukee Harbor, Milwaukee, WI, at the following times for the following events:

(1) Pridefest fireworks display on June 6, 2015 from 9:15 p.m. until 10:15 p.m.;

(2) Polish Fest fireworks display on June 13, 2015 from 10:15 p.m. until 11:15 p.m.;

(3) Summerfest fireworks display on each day of June 24, 2015 and July 2, 2015 from 9:15 p.m. until 10:30 p.m.;

(4) Festa Italiana fireworks display on each day of July 17, 18, and 19, 2015 from 10:15 p.m. until 11:15 p.m.;

(5) German Fest fireworks display on each day of July 24 and 25, 2015 from 10:15 p.m. until 11:15 p.m.;

(6) Irish Fest fireworks display on August 13, 2015 from 10:15 p.m. until 11:15 p.m.;

(7) Indian Summer fireworks display on each day of September 11 and 12, 2015 from 9:45 p.m. until 10:45 p.m.

This safety zone will encompass the waters of Lake Michigan within Milwaukee Harbor including the Harbor Island Lagoon enclosed by a line connecting the following points: beginning at 43°02′00″ N., 087°53′53″ W.; then south to 43°01′44″ N., 087°53′53″ W.; then east to 43°01′44″ N., 087°53′25″ W.; then north to 43°02′00″ N., 087°53′25″ W.; then west to the point of origin. All vessels must obtain permission from the Captain of the Port Lake Michigan or her on-scene representative to enter, move within, or exit the safety zone. Vessels and persons granted permission to enter the safety zone must obey all lawful orders or directions of the Captain of the Port Lake Michigan or her on-scene representative.

This document is issued under authority of 33 CFR 165.935 Safety Zone, Milwaukee Harbor, Milwaukee, WI and 5 U.S.C. 552(a). In addition to this publication in the Federal Register, the Coast Guard will provide the maritime community with advance notification of the enforcement periods via Broadcast Notice to Mariners or Local Notice to Mariners. The Captain of the Port Lake Michigan or her on-scene representative may be contacted via VHF Channel 16.

Dated: May 29, 2015.
A.B. Cocanour,
Captain, U.S. Coast Guard, Captain of the Port Lake Michigan.

[FR Doc. 2015-14447 Filed 6-11-15; 8:45 am]

BILLING CODE 9110-04-P